DEPARTMENT OF TRANSPORTATION

Federal Aviation Administration

Fourteenth Meeting: RTCA Special Committee 223, Airport Surface Wireless Communications

AGENCY: Federal Aviation Administration (FAA), U.S. Department of Transportation (DOT).

ACTION: Meeting Notice of RTCA Special Committee 223, Airport Surface Wireless Communications.

SUMMARY: The FAA is issuing this notice to advise the public of the meeting of RTCA Special Committee 223, Airport Surface Wireless Communications.

DATES: The meeting will be held July 24-25, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 223. The agenda will include the following:

July 24, 2012

• Welcome, Introductions, and Administrative Remarks by Special Committee Leadership.

• Designated Federal Official (DFO): Mr. Brent Phillips.

• Co-Chair: Mr. Aloke Roy, Honeywell International.

• Co-Chair: Mr. Ward Hall, ITT-Exelis.

• Agenda Overview.

• Review/Approve prior Plenary meeting Summary and action item status.

• General Presentations of interest.

• ICAO WG-S Status Aloke Roy.

• WiMAX Forum status WiMAX Forum.

• MSS interference analysis update NASA.

• AT4 Wireless analysis and recommendations.

• AeroMACS Profile CCB status Art Ahrens.

• MOPS Status Rockwell Collins.

• Establish Agenda, Date and Place for RTCA plenary meetings #15 and #16.

• Review of Meeting summary report.

• Adjourn—Plenary meeting.

July 25, 2012

MOPS WG Breakout Session

• Wednesday Morning—MOPS WG Breakout Session.

• Detailed review of Sections 1, 2.1, and 2.2.

• Wednesday Afternoon—MOPS WG Breakout Session.

• Working session to review and update section 2.3—Environmental Conditions.

Attendance is open to the interested public but limited to space availability. With the approval of the chairman, members of the public may present oral statements at the meeting. Persons wishing to present statements or obtain information should contact the person listed in the FOR FURTHER INFORMATION CONTACT section. Members of the public may present a written statement to the committee at any time. Issued in Washington, DC, on June 15, 2012.

Kathy Hitt,
Program Analyst, Business Operations Branch, Federal Aviation Administration.

[FR Doc. 2012-15275 Filed 6-21-12; 8:45 am]

BILLING CODE 4910-13-P